DEPARTMENT OF HEALTH AND HUMAN SERVICES

National Institutes of Health

Notice of Establishment

Pursuant to the Federal Advisory Committee Act, as amended (5 U.S.C. appendix 2), the Director, National Institutes of Health (NIH), announces the establishment of the National Institute of Biomedical Imaging and Bioengineering Special Emphasis Panel (Committee).

This Committee shall advise the Director, NIH, and the Director, National Institute of Biomedical Imaging and Bioengineering, regarding concept review, research grant and cooperative agreement applications, and contract proposals relating to broad areas of biomedical imaging and bioengineering.

Duration of this Committee is continuing unless formally determined by the Director, NIH, that termination would be in the best public interest.

Dated: September 17, 2003.
Elias Zerhouni,
Director, National Institutes of Health.

[FR Doc. 03-24461 Filed 9-26-03; 8:45 am]

BILLING CODE 4140-01-M